DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 4, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Dated: March 1, 2018.
Roy E. Wright,
Deputy Associate Administrator for Insurance and Mitigation, Department of Homeland Security, Federal Emergency Management Agency.

Community | Community map repository address
Los Angeles County, California and Incorporated Areas
Docket No.: FEMA-B-1650
City of Agoura Hills | 30001 Ladyface Court, Agoura Hills, CA 91301.
City of Westlake Village | 31200 Oak Crest Drive, Westlake Village, CA 91361.
Unincorporated Areas of Los Angeles County | Public Works Headquarters, Water Management Division, 900 South Freemont Avenue, Alhambra, CA 91803.
Ventura County, California and Incorporated Areas
Docket No.: FEMA-B-1650
City of Thousand Oaks | City Hall, 2100 East Thousand Oaks Boulevard, Thousand Oaks, CA 91362.
Unincorporated Areas of Ventura County | Ventura County Public Works Agency, 800 South Victoria Avenue, Ventura, CA 93009.
Morgan County, Colorado and Incorporated Areas
Docket No.: FEMA-B-1658
City of Brush | City Hall, 600 Edison Street, Brush, CO 80723.
City of Fort Morgan | City Hall, 110 Main Street, Fort Morgan, CO 80701.
Town of Wiggins | Town Hall, 304 Central Avenue, Wiggins, CO 80654.
Unincorporated Areas of Morgan County | Morgan County Planning and Zoning Department, 231 Ensign Street, Fort Morgan, CO 80701.
Dawson County, Georgia and Incorporated Areas
Docket No.: FEMA-B-1655
City of Dawsonville | City Hall, 415 Highway 53 East, Suite 100, Dawsonville, GA 30534.
Unincorporated Areas of Dawson County | Dawson County Planning and Development Department, 25 Justice Way, Suite 2322, Dawsonville, GA 30534.
Hall County, Georgia and Incorporated Areas
Docket No.: FEMA-B-1655
City of Buford | City Hall, 2300 Buford Highway, Buford, GA 30518.
City of Flowery Branch | City Hall, 5517 Main Street, Flowery Branch, GA 30542.
City of Gainesville | Department of Water Resources Administration Building, 757 Queen City Parkway, Southwest, Gainesville, GA 30501.
City of Lula | City Hall, 6055 Main Street, Lula, GA 30554.
City of Oakwood | City Hall, 4035 Walnut Circle, Oakwood, GA 30566.
Town of Clermont | Town Hall, 109 King Street, Clermont, GA 30527.
Unincorporated Areas of Hall County | Hall County Government Center, Engineering Division, 2875 Browns Bridge Road, 3rd Floor, Gainesville, GA 30504.
Lumpkin County, Georgia and Incorporated Areas
Docket No.: FEMA-B-1655
City of Dahlonega | City Hall, 465 Riley Road, Dahlonega, GA 30533.
Unincorporated Areas of Lumpkin County | Lumpkin County Planning and Public Works Department, 25 Short Street, Suite 10, Dahlonega, GA 30533.
Davis County, Iowa and Incorporated Areas
Docket No.: FEMA-B-1657
City of Bloomfield | City Hall, 111 West Franklin Street, Bloomfield, IA 52537.
City of Floris | City Hall, 103 Monroe Street, Floris, IA 52560.
Unincorporated Areas of Davis County | Davis County Highway Department, 21585 Lilac Avenue, Bloomfield, IA 52537.
Hancock County, Iowa and Incorporated Areas
Docket No.: FEMA-B-1657
City of Britt | City Hall, 170 Main Avenue South, Britt, IA 50423.
City of Corwith | City Hall, 108 Northwest Elm Street, Corwith, IA 50430.
City of Crystal Lake | City Hall, 225 State Avenue South, Crystal Lake, IA 50432.
City of Forest City | City Hall, 305 North Clark Street, Forest City, IA 50436.
City of Garner | City Hall, 135 West 5th Street, Garner, IA 50438.
City of Kanawha | City Hall, 121 North Main Street, Kanawha, IA 50477.
City of Woden | City Hall, 302 Main Avenue, Woden, IA 50484.
Unincorporated Areas of Hancock County | Hancock County Courthouse, 855 State Street, Garner, IA 50438.

[FR Doc. 2018-05188 Filed 3-13-18; 8:45 am]

BILLING CODE 9110-12-P